COMMITTEE FOR THE IMPLEMENTATION OF TEXTILE AGREEMENTS

Adjustment of Import Limits for Certain Cotton, Wool, Man-Made Fiber, Silk Blend and Other Vegetable Fiber Textiles and Textile Products Produced or Manufactured in Indonesia

October 24, 2001.

AGENCY: Committee for the Implementation of Textile Agreements (CITA).

ACTION: Issuing a directive to the Commissioner of Customs adjusting limits.

EFFECTIVE DATE: October 30, 2001.

FOR FURTHER INFORMATION CONTACT: Ross Arnold, International Trade Specialist, Office of Textiles and Apparel, U.S. Department of Commerce, (202) 482-4212. For information on the quota status of these limits, refer to the Quota Status Reports posted on the bulletin boards of each Customs port, call (202) 927-5850, or refer to the U.S. Customs website at http://www.customs.gov. For information on embargoes and quota re-openings, refer to the Office of Textiles and Apparel website at http://otexa.ita.doc.gov.

SUPPLEMENTARY INFORMATION:

Authority: Section 204 of the Agricultural Act of 1956, as amended (7 U.S.C. 1854); Executive Order 11651 of March 3, 1972, as amended.

The current limits for certain categories are being adjusted for swing, special shift, carryforward and the recrediting of unused carryforward.

A description of the textile and apparel categories in terms of HTS numbers is available in the CORRELATION: Textile and Apparel Categories with the Harmonized Tariff Schedule of the United States (see Federal Register notice 65 FR 82328, published on December 28, 2000). Also see 65 FR 69911, published on November 21, 2000.

D. Michael Hutchinson,
Acting Chairman, Committee for the Implementation of Textile Agreements.

Committee for the Implementation of Textile Agreements

October 24, 2001.

Commissioner of Customs,

Department of the Treasury, Washington, DC 20229.

Dear Commissioner: This directive amends, but does not cancel, the directive issued to you on November 15, 2000, by the Chairman, Committee for the Implementation of Textile Agreements. That directive concerns imports of certain cotton, wool, man-made fiber, silk blend and other vegetable fiber textiles and textile products, produced or manufactured in Indonesia and exported during the twelve-month period which began on January 1, 2001 and extends through December 31, 2001.

Effective on October 30, 2001, you are directed to adjust the limits for the categories listed below, as provided for under the Uruguay Round Agreement on Textiles and Clothing:

Category | Twelve-month restraint limit ¹
Levels in Group I |
219 | 12,167,650 square meters.
313-O ² | 24,079,690 square meters.
314-O ³ | 72,895,964 square meters.
317-O ⁴/326-O ⁵/617 | 32,687,988 square meters of which not more than 5,220,052 square meters shall be in Category 326-O.
331/631 | 3,458,408 dozen pairs.
334/335 | 344,963 dozen.
340/640 | 2,208,129 dozen.
341 | 1,256,446 dozen.
347/348 | 2,512,951 dozen.
351/651 | 742,461 dozen.
360 | 1,875,823 numbers.
361 | 1,915,696 numbers.
433 | 13,223 dozen.
445/446 | 67,214 dozen.
447 | 20,661 dozen.
448 | 24,096 dozen.
604-A ⁶ | 1,029,418 kilograms.
613/614/615 | 29,092,809 square meters.
618-O ⁷ | 4,781,490 square meters.
619/620 | 12,429,273 square meters.
625/626/627/628/629-O ⁸ | 28,816,191 square meters.
638/639 | 1,980,060 dozen.
641 | 3,355,774 dozen.
643 | 444,057 numbers.
645/646 | 1,158,288 dozen.
Group II |
201, 218, 220, 222-224, 226, 227, 237, 239pt. ⁹, 332, 333, 352, 359-O ¹⁰, 362, 363, 369-O ¹¹, 400, 410, 414, 431, 434, 435, 436, 438, 440, 442, 444, 459pt. ¹², 464, 469pt. ¹³, 603, 604-O ¹⁴, 606, 607, 621, 622, 624, 633, 649, 652, 659-O ¹⁵, 666, 669-O ¹⁶, 670-O ¹⁷, 831, 833-836, 838, 840, 842-846, 850-852, 858 and 859pt. ¹⁸, as a group | 146,249,008 square meters equivalent.
Subgroup in Group II |
400, 410, 414, 431, 434, 435, 436, 438, 440, 442, 444, 459pt., 464 and 469pt., as a group | 3,308,326 square meters equivalent.
¹ The limits have not been adjusted to account for any imports exported after December 31, 2000.
² Category 313-O: all HTS numbers except 5208.52.3035, 5208.52.4035 and 5209.51.6032.
³ Category 314-O: all HTS numbers except 5209.51.6015.
⁴ Category 317-O: all HTS numbers except 5208.59.2085.
⁵ Category 326-O: all HTS numbers except 5208.59.2015, 5209.59.0015 and 5211.59.0015.
⁶ Category 604-A: only HTS number 5509.32.0000.
⁷ Category 618-O: all HTS numbers except 5408.24.9010 and 5408.24.9040.
⁸ Category 625/626/627/628; Category 629-O: all HTS numbers except 5408.34.9085 and 5516.24.0085.
⁹ Category 239pt.: only HTS number 6209.20.5040 (diapers).
¹⁰ Category 359-O: all HTS numbers except 6103.42.2025, 6103.49.8034, 6104.62.1020, 6104.69.8010, 6114.20.0048, 6114.20.0052, 6203.42.2010, 6203.42.2090, 6204.62.2010, 6211.32.0010, 6211.32.0025 and 6211.42.0010 (Category 359-C); 6112.39.0010, 6112.49.0010, 6211.11.8010, 6211.11.8020, 6211.12.8010 and 6211.12.8020 (Category 359-S) and 6406.99.1550 (Category 359pt.).
¹¹ Category 369-O: all HTS numbers except 6307.10.2005 (Category 369-S); 5601.10.1000, 5601.21.0090, 5701.90.1020, 5701.90.2020, 5702.10.9020, 5702.39.2010, 5702.49.1020, 5702.49.1080, 5702.59.1000, 5702.99.1010, 5702.99.1090, 5705.00.2020 and 6406.10.7700 (Category 369pt.).
¹² Category 459pt.: all HTS numbers except 6405.20.6030, 6405.20.6060, 6405.20.6090, 6406.99.1505 and 6406.99.1560.
¹³ Category 469pt.: all HTS numbers except 5601.29.0020, 5603.94.1010 and 6406.10.9020.
¹⁴ Category 604-O: all HTS numbers except 5509.32.0000 (Category 604-A).
¹⁵ Category 659-O: all HTS numbers except 6103.23.0055, 6103.43.2020, 6103.43.2025, 6103.49.2000, 6103.49.8038, 6104.63.1020, 6104.63.1030, 6104.69.1000, 6104.69.8014, 6114.30.3044, 6114.30.3054, 6203.43.2010, 6203.43.2090, 6203.49.1010, 6203.49.1090, 6204.63.1510, 6204.69.1010, 6210.10.9010, 6211.33.0010, 6211.33.0017, 6211.43.0010 (Category 659-C); 6112.31.0010, 6112.31.0020, 6112.41.0010, 6112.41.0020, 6112.41.0030, 6112.41.0040, 6211.11.1010, 6211.11.1020, 6211.12.1010, 6211.12.1020 (Category 659-S); 6406.99.1510 and 6406.99.1540 (Category 659pt.).
¹⁶ Category 669-O: all HTS numbers except 6305.32.0010, 6305.32.0020, 6305.33.0010, 6305.33.0020, 6305.39.0000 (Category 669-P); 5601.10.2000, 5601.22.0090, 5607.49.3000, 5607.50.4000 and 6406.10.9040 (Category 669pt.).
¹⁷ Category 670-O: all HTS numbers except 4202.12.8030, 4202.12.8070, 4202.92.3020, 4202.92.3031, 4202.92.9026 and 6307.90.9907 (Category 670-L).
¹⁸ Category 859pt.: only HTS numbers 6115.19.8040, 6117.10.6020, 6212.10.5030, 6212.10.9040, 6212.20.0030, 6212.30.0030, 6212.90.0090, 6214.10.2000 and 6214.90.0090.

The Committee for the Implementation of Textile Agreements has determined that these actions fall within the foreign affairs exception to the rulemaking provisions of 5 U.S.C. 553(a)(1).

Sincerely,

D. Michael Hutchinson,

Acting Chairman, Committee for the Implementation of Textile Agreements.

[FR Doc.01-27219 Filed 10-29-01; 8:45 am]

BILLING CODE 3510-DR-S